DEPARTMENT OF THE INTERIOR

National Park Service

Minor Boundary Revision at Fire Island National Seashore

AGENCY: National Park Service, Interior.

ACTION: Announcement of park boundary revision.

SUMMARY: Notice is given that that the western boundary of Fire Island National Seashore is revised to include Tract No. 17-04 as depicted on map number 615/81,487 prepared by the National Park Service in October 2005. This map and other supporting documentation are available for inspection at the National Park Service, Northeast Region, Land Resources Division, New England Office, 222 Merrimack Street, Suite 400E, Lowell, Massachusetts 01852, and in the Offices of the National Park Service, Department of the Interior, Washington, DC 20240.

FOR FURTHER INFORMATION CONTACT: Superintendent, Fire Island National Seashore, 120 Laurel Street, Patchogue, NY 11772.

SUPPLEMENTARY INFORMATION: Section 7c) of the Land and Water Conservation Fund Act of 1965, as amended, 16 U.S.C. 4601-9(c), authorizes the Secretary of the Interior to make minor revisions to the boundaries of a unit of the National Park System that will contribute to and are necessary for the proper preservation, protection, interpretation, or management of such a unit. To provide for the proper protection and management of Fire Island National Seashore, it is necessary to include within the boundaries of the national seashore certain property referred to as Tract No. 17-04, consisting of 0.82 acre of Federal land, more or less, on Fire Island in the Town of Islip, Suffolk County, New York, located adjacent to federally owned Tract No. 17-01. The tract is owned by the United States of America by resumption of title from and with the acknowledgement of the State of New York pursuant to the Act of June 7, 1924, Public Law 252.

Dated: May 10, 2006.
Mary A. Bomar,
Regional Director, Northeast Region.

[FR Doc. 06-6476 Filed 7-25-06; 8:45 am]

BILLING CODE 4310-YV-M